DEPARTMENT OF DEFENSE

Department of the Navy

Use of Binding Arbitration for Contract Controversies

AGENCY: Department of the Navy, DoD.

ACTION: Notice.

SUMMARY: The Department of the Navy (DON), after consultation with the Attorney General as required by 5 U.S.C. 575(c), has adopted a policy that authorizes contracting officers to use binding arbitration procedures for issues in controversy arising under procurement contracts using appropriated and non-appropriated funds.

FOR FURTHER INFORMATION CONTACT: John A. Dietrich, Assistant General Counsel (ADR), telephone 202-685-6990.

SUPPLEMENTARY INFORMATION: The policy is contained in Secretary of the Navy Instruction 5800.15, “Use of Binding Arbitration for Contract Controversies,” and is available on http://doni.daps.dla.mil/SECNAV.aspx and http://adr.navy.mil. The instruction provides interpretive guidance regarding applicable statutes and regulates the internal affairs of the DON by granting authority to contracting officers to use binding arbitration for issues in controversy.

Dated: March 12, 2007.
M.A. Harvison,
Lieutenant Commander, Judge Advocate General's Corps, U.S. Navy, Federal Register Liaison Officer.

[FR Doc. E7-5031 Filed 3-19-07; 8:45 am]

BILLING CODE 3810-FF-P